DEPARTMENT OF TRANSPORTATION

Federal Highway Administration

Environmental Impact Statement: Cowlitz County, Washington

AGENCY: Federal Highway Administration (FHWA), Department of Transportation (DOT).

ACTION: Notice of Intent to prepare an environmental impact statement.

SUMMARY: The FHWA is issuing this notice to advise the public that an environmental impact statement (EIS) will be prepared for a proposed highway project in Cowlitz County, Washington.

FOR FURTHER INFORMATION CONTACT: Liana Liu, Area Engineer, Federal Highway Administration, 711 South Capitol Way, Suite 501, Olympia, Washington 98501; telephone: (360) 753-9553; email: Liana.Liu@dot.gov. Washington State Department of Transportation (WSDOT) agency contact: Barb Aberle, Southwest Region Environmental Manager, Washington State Department of Transportation; telephone: (360) 905-2186; email: AberleB@wsdot.wa.gov. Cowlitz County agency contact: Claude Sakr, Project Manager, Cowlitz County Public Works, 1600 13th Avenue South, Kelso, WA 98626; email: IndustrialOregonWay@co.cowlitz.wa.us.

SUPPLEMENTARY INFORMATION: The FHWA, in cooperation with WSDOT and Cowlitz County, will prepare an EIS on the Industrial Way/Oregon Way Intersection Project to provide improvements at the intersection of State Route (SR) 432 and SR 433 to reduce congestion, increase freight mobility, and improve safety. Improvements to the intersection are considered necessary to meet forecasted long term vehicular traffic growth.

Preliminary alternatives under consideration include: (1) Taking no action; (2) raising the intersection to completely separate highway traffic from train traffic; and (3) making at-grade highway improvements; (4) a combination of raising the highway intersection while retaining some roadway at-grade access.

The FHWA along with WSDOT and Cowlitz County are holding a public scoping meeting on September 17, 2015, from 5:00 p.m. to 7:00 p.m. at the Cowlitz PUD Auditorium in Longview, Washington to solicit public comments regarding scope of issues to be addressed in the EIS. The public were notified of these meetings on September 4, 2015 in a flyer mailed to interested parties and residents in the vicinity of the project as well as published in a legal notice in The Columbian and The Daily News. The meeting will use an open-house format and will begin with a presentation to provide an overview of the project. Exhibits, maps, and other pertinent information about this project will be displayed. Staff will be present to answer questions as appropriate and as time permits.

Agencies, Tribes, and the public are encouraged to submit comments on the purpose and need and preliminary range of alternatives during the scoping period. Comments must be received by October 12, 2015, to be included in the formal scoping record. To ensure that the full range of issues related to this proposed action is addressed, and all the significant issues identified, comments and suggestions are invited from interested parties during the scoping period. Comments concerning this proposal will be accepted at the public meeting or can be sent by mail to: Claude Sakr, Project Manager, Cowlitz County Public Works, 1600 13th Avenue South, Kelso, WA 98626, or by email to: IndustrialOregonWay@co.cowlitz.wa.us.

(Catalog of Federal Domestic Assistance Program Number 20.205, Highway Planning and Construction. The regulations implementing Executive Order 12372 regarding intergovernmental consultation on Federal programs and activities apply to this program.)

Daniel Mathis,
Division Administrator, Washington Division, Federal Highway Administration.

[FR Doc. 2015-22874 Filed 9-9-15; 8:45 am]

BILLING CODE 4910-22-P